DEPARTMENT OF ENERGY

Federal Energy Regulatory Commission

[Project No. 13697-000]

Mississippi 16 Hydro, LLC; Notice of Preliminary Permit Application Accepted for Filing and Soliciting Comments, Motions To Intervene, and Competing Applications

May 11, 2010.

On April 5, 2010 Mississippi 16 Hydro, LLC filed an application for a preliminary permit, pursuant to section 4(f) of the Federal Power Act, proposing to study the feasibility of the Mississippi River Lock and Dam #16 Hydroelectric Project, located on the Mississippi River, in Rock Island County, Iowa. The sole purpose of a preliminary permit, if issued, is to grant the permit holder priority to file a license application during the permit term. A preliminary permit does not authorize the permit holder to perform any land-disturbing activities or otherwise enter upon lands or waters owned by others without the owners' express permission.

The proposed project would consist of: (1) The powerhouse; (2) installation of four 5.2 megawatt bulb turbines; (3) a proposed 1.5-mile-long, 69-kilovolt transmission line; (4) switchyard; and (5) appurtenant facilities. The proposed Mississippi River Lock and Dam #16 Hydroelectric Project would have an average annual generation of 95.5 gigawatt-hours.

Applicant Contact: Brent L. Smith, COO, Symbiotics, LLC, P.O. Box 535, Rigby, Idaho 83442; phone: (208) 745-0834.

FERC Contact: Bryan Roden-Reynolds at (202) 502-6618, or via e-mail at bryan.roden-reynolds@ferc.gov.

The deadline for filing comments, motions to intervene, competing applications (without notices of intent), or notices of intent to file competing applications is 60 days from the issuance of this notice. Competing applications and notices of intent must meet the requirements of 18 CFR 4.36. Comments, motions to intervene, notices of intent, and competing applications may be filed electronically via the Internet. See 18 CFR 385.2001(a)(1)(iii) and the instructions on the Commission's Web site (http://www.ferc.gov/docs-filing/ferconline.asp), under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies of the correspondence to: Kimberly D. Bose, Secretary, Federal Energy Regulatory Commission, 888 First Street, NE., Washington, DC 20426.

More information about this project, including a copy of the application, can be viewed or printed on the Commission's “eLibrary” link at http://www.ferc.gov/docs-filing/elibrary.asp. Enter the docket number (P-13697) in the docket number field to access the document. For assistance, contact FERC Online Support.

Kimberly D. Bose,
Secretary.

[FR Doc. 2010-11786 Filed 5-17-10; 8:45 am]

BILLING CODE 6717-01-P